DEPARTMENT OF THE INTERIOR

National Park Service

[NPS-WASO-NRNHL-DTS#-26237; PPWOCRADI0, PCU00RP14.R50000]

National Register of Historic Places; Notification of Pending Nominations and Related Actions

AGENCY: National Park Service, Interior.

ACTION: Notice.

SUMMARY: The National Park Service is soliciting comments on the significance of properties nominated before August 4, 2018, for listing or related actions in the National Register of Historic Places.

DATES: Comments should be submitted by September 11, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before August 4, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

CALIFORNIA

Fresno County

Hotel Fresno, 1241-1263 Broadway Plz., Fresno, SG100002910

COLORADO

Las Animas County

Starkville Central School, 8801 Cty. Rd. 69.0, Starkville, SG100002911

DELAWARE

Sussex County

Ball Theatre, 214 Main St., Millsboro, SG100002912

DISTRICT OF COLUMBIA

District of Columbia

St. Paul's College, 3015 4th St. NE, Washington, SG100002913

ILLINOIS

Cook County

South Side Community Art Center, 3831 S Michigan Ave., Chicago, SG100002914

Morgan County

Jacksonville Downtown Historic District, Roughly bounded by Court, West, Morgan, Sandy, Main, Mauvaisterre & State Sts., Jacksonville, SG100002915

Vermilion County

First National Bank Building, 2-4 N Vermilion St., Danville, 00001335

INDIANA

Floyd County

Fine, M. and Sons Building, 1420 E Main St., New Albany, SG100002917

IOWA

Scott County

First National Bank of Davenport, 1606 Brady St., Davenport, SG100002918

Washington County

West Side Residential Historic District, Roughly the 300-800 blks. of W Washington Blvd., W Jefferson & W Main Sts. Including Sunset Park, Washington, SG100002919

KENTUCKY

Kenton County

Battery Bates and Battery Coombs, Sleepy Hollow Rd., Covington, SG100002920

NEW YORK

Clinton County

Mooers Riverside Cemetery, Jct. of US 1 & Mill St., Mooers, SG100002921

Erie County

Fiddlers Green Historic District, 65-85 Franklin & 23-37 N Buffalo Sts., Springville, SG100002922

Warren County

Queensbury Hotel, The, 88 Ridge St., Glens Falls, SG100002924

NORTH CAROLINA

Ashe County

Pennington, Cicero, Farm (Ashe County, North Carolina, c. 1799-1955 MPS), 630 Spencer Branch Rd., Sturgills vicinity, MP100002925

Bladen County

Bladen County Training School (Rosenwald School Building Program in North Carolina MPS), 1360 Martin Luther King Jr. Dr., Elizabethtown, MP100002926

Forsyth County

Speas, William Henry and Sarah Hauser, House, 3991 River Ridge Rd., Pfafftown vicinity, SG100002927

Guilford County

Minneola Manufacturing Company Cloth Warehouse, 108 E Railroad Ave., Gibsonville, SG100002928

Madison County

Ellerson, William R. House, 320 Gahagans Rd., Hot Springs, SG100002929

Wake County

Oak Grove Cemetery, 4303 Beryl Rd., Raleigh, SG100002930

Oberlin Cemetery, 1014 Oberlin Rd., Raleigh, SG100002931

Wilkes County

Lincoln Heights School, (Rosenwald School Building Program in North Carolina MPS), 197 Lincoln Heights Rd., Wilkesboro, MP100002932

PUERTO RICO

Barranquitas Municipality

El Cortijo, PR 162, Km 18.5, Pueblo Ward, Barranquitas, SG100002934

San Juan Municipality

Instituto Loaiza Cordero para Ninos Ciegos Historic District—Distrito Historico Instituto, Loaiza Cordero para Ninos Ciegos, 1312 Avenida Fernandez Juncos, San Juan vicinity, SG100002935

Puerta de Tierra Historic District—Distrito Histórico de Puerta de Tierra

San Juan Islet to the east of the Old San Juan Historic District, San Juan vicinity, SG100002936

RHODE ISLAND

Providence County

Andrews Mill Company Plant, 761 Great Rd., North Smithfield, SG100002937

WASHINGTON

King County

Ravenna—Cowen North Historic District, Roughly bounded by 65th St., Ravenna Park, Ravenna Ravine & 12th Ave., Seattle, SG100002939

Mason County

Ebenezer Congregational Church, 18500 WA 3, Allyn, SG100002940

WISCONSIN

Waupaca County

Clintonville High School, 105 S Clinton Ave. & 25 8th St., Clintonville, SG100002941

WYOMING

Johnson County

Jameson Site, Address Restricted, Barnum vicinity, SG100002942

A request for removal has been made for the following resource:

INDIANA

Delaware County

Johnson, J. C., House, 322 E Washington, Muncie, OT82000032

Nomination submitted by Federal Preservation Officer:

The State Historic Preservation Officer reviewed the following nomination and responded to the Federal Preservation Officer within 45 days of receipt of the nomination and supports listing the property in the National Register of Historic Places.

TENNESSEE

Maury County

United States Post Office and Court House, 815 S Garden St., Columbia, SG100002938

Authority: Section 60.13 of 36 CFR part 60.

Dated: August 9, 2018.
Julie H. Ernstein
Acting Chief, National Register of Historic Places/National Historic Landmarks Program and Deputy Keeper of the National Register of Historic Places.

[FR Doc. 2018-18452 Filed 8-24-18; 8:45 am]

BILLING CODE 4312-52-P